DEPARTMENT OF ENERGY

Federal Energy Regulatory Commission

[Project No. 1494-473]

Grand River Dam Authority; Notice Dismissing Request for Clarification

On July 2, 2024, the City of Miami, Oklahoma (City), filed a request for clarification of Commission staff's June 3, 2024 order ¹ granting Grand River Dam Authority (GRDA), licensee of the Pensacola Project No. 1494, an extension of time to complete its flooding and property rights report required by the Commission's January 18, 2024 Order on Remand (Order on Remand).² The City requests that the Commission clarify the intended scope of analysis of the flooding and property rights report required by the Order on Remand.³

¹ Commission staff June 3, 2024 Order Granting Extension of Time to File Flooding and Property Rights Report.

² Grand River Dam Auth., 186 FERC ¶ 61,045 (Order on Remand), order on reh'g, 187 FERC ¶ 61,211 (2024).

³ City of Miami, Oklahoma, July 2, 2024 Request for Clarification at 2.

On July 17, 2024, GRDA filed an answer to the City's request for clarification asserting that the Commission should reject the City's request because no clarification is needed, it is time barred under section 313(a) of the FPA, and it is relitigating issues that the Commission has previously rejected.⁴

⁴ Grand River Dam Auth. July 17, 2024 Answer at 1.

The City's request for clarification concerns the scope of the flooding and property rights report required by the Commission's Order on Remand and discussed in GRDA's request for an extension of time to file its report. Rule 213 of the Commission's regulations allows for an answer to a motion for an extension of time within five days after the motion is filed.⁵ Here, the deadline to file an answer to GRDA's extension of time request was May 21, 2024. The City filed its request for clarification on July 2, 2024, well beyond the date allowed under the Commission's regulations. Therefore, the City's request for clarification is dismissed.

⁵ 18 CFR 385.213(d)(i) (2023).

Dated: August 1, 2024.
Debbie-Anne A. Reese,
Acting Secretary.

[FR Doc. 2024-17488 Filed 8-7-24; 8:45 am]

BILLING CODE 6717-01-P